DEPARTMENT OF HOMELAND SECURITY

BioWatch Filter Holder Log

AGENCY: Office of Health Affairs, Weapons of Mass Destruction (WMD) and Biodefense, Chem/Bio Early Detection Division, DHS.

ACTION: 60-Day Notice and request for comments; New Information Collection Request.

SUMMARY: The Department of Homeland Security, Office of Health Affairs, WMD and Biodefense, has submitted the following information collection request (ICR) to the Office of Management and Budget (OMB) for review and clearance in accordance with the Paperwork Reduction Act of 1995 (Pub. L. 104-13, 44 U.S.C. Chapter 35).

DATES: Comments are encouraged and will be accepted until June 3, 2008. This process is conducted in accordance with 5 CFR 1320.1.

ADDRESSES: Comments and questions about this Information Collection Request should be forwarded to the Division Director, Chem/Bio Early Detection Division, Attn: Dr. Jeffrey Stiefel for the Department of Homeland Security, Office of Health Affairs, WMD and Biodefense, Washington, DC 20528.

FOR FURTHER INFORMATION CONTACT: Dr. Jeffrey Stiefel, 703-647-8056 or 202-254-6076 (this is not a toll free number).

SUPPLEMENTARY INFORMATION: The Department of Homeland Security (DHS), Office of Health Affairs, WMD and Biodefense, Chem/Bio Early Detection Division requires the collection of information by BioWatch jurisdictions. The BioWatch Program operates aerosol collector equipment in approximately 30 U.S. jurisdictions to monitor for the presence of organisms that may be related to the deliberate release of a select subset of biological threat agents. Information is collected in writing by a representative of a BioWatch jurisdiction (either an employee, or a contractor) responsible for installing and removing filters from aerosol collection devices and transporting them to local laboratories for sample analysis. A standard filter holder log is completed for each sample and is archived by the BioWatch jurisdiction for a year. The DHS BioWatch Program provides financial support to the participating jurisdictions for the cost of collection and laboratory analysis activities, including the preparation of the filter holder log and other documentation. The Federal Bureau of Investigation (FBI) has instructed the BioWatch Program to maintain a written record for each collected filter sample to support law enforcement activities, including criminal prosecution in the case of a deliberate release of a biological agent. Collection of written records establishing chain of custody for samples containing biological agents and toxins for the purpose of evidence in a criminal proceeding is consistent with the “Best Evidence Rule”, Section 1002, of the Federal Rules of Evidence. The FBI instruction to the BioWatch program is consistent with Section 7 of the FBI Quality Assurance Guidelines for Laboratories Performing Microbial Forensic Work, produced by the members of the Scientific Working Group on Microbial Genetics and Forensics (SWGMGF). Such recordkeeping supports mandatory reporting requirements directed by The APHIS Interim Final Rule 7 CFR part 331, Possession, Use, and Transfer of Biological Agents and Toxins; and the CDC Interim Final Rule 42 CFR part 73, Possession, Use, and Transfer of Select Agents and Toxins, inter alia.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, Office of Health Affairs, WMD and Biodefense, Chem/Bio Early Detection Division.

Title: BioWatch Filter Holder Log.

DHS Form: 9500 (5/07).

OMB Number: 1601—NEW.

Frequency: Once daily.

Affected Public: State, Local, and Tribal Governments.

Number of Respondents: 522.

Estimated Time per Respondent: 1 minute.

Total Burden Hours: 3,182 annual burden hours.

Total Burden Cost (capital/startup): $0.00.

Total Burden Cost (operating/maintaining): $144,770.

Dated: March 28, 2008.
Charles Armstrong,
Acting Chief Information Officer.

[FR Doc. E8-7077 Filed 4-3-08; 8:45 am]

BILLING CODE 4410-10-P